DEPARTMENT OF COMMERCE

International Trade Administration

[A-549-502]

Certain Welded Carbon Steel Pipes and Tubes From Thailand; Notice of Amended Final Results of Antidumping Duty Administrative Review in Accordance With Final Court Decision

AGENCY: Import Administration, International Trade Administration, Department of Commerce.

ACTION: Notice of Amended Final Results of Administrative Review in Accordance with Final Court Decision on Certain Welded Carbon Steel Pipes and Tubes from Thailand.

SUMMARY: On March 22, 2001, the U.S. Court of International Trade (CIT) affirmed the Department of Commerce's (the Department's) remand determination of the final results of the antidumping duty administrative review of Certain Welded Carbon Steel Pipes and Tubes from Thailand for the period March 1, 1997 to February 28, 1998, and entered a judgement order. As no further appeals have been filed and there is now a final and conclusive court decision in this action, we are amending our final results.

EFFECTIVE DATE: August 29, 2001.

FOR FURTHER INFORMATION CONTACT: Javier Barrientos, AD/CVD Enforcement Group III, Office VII, Room 7866, Import Administration, International Trade Administration, U.S. Department of Commerce, 14th Street and Constitution Avenue, NW, Washington, DC 20230; telephone: (202) 482-2243.

SUPPLEMENTARY INFORMATION:

Applicable Statute and Regulations

Unless otherwise indicated, all citations to the Tariff Act of 1930, as amended (“the Act”), are references to the provisions effective January 1, 1995, the effective date of the Uruguay Round Agreements Act. In addition, unless otherwise indicated, all citations to the Department's regulations are to the regulations codified at 19 CFR part 351 (2000).

Background

On October 21, 1999, the Department published its final results for the administrative review of Certain Welded Carbon Steel Pipes and Tubes from Thailand for the period March 1, 1997 through February 28, 1998. See Certain Welded Carbon Steel Pipes and Tubes From Thailand: Final Results of Antidumping Duty Administrative Review, 64 FR 56759 (October 21, 1999) (Final Results).

In the Final Results, the Department used, as facts available, a simple average of respondent's, Saha Thai's, claimed invoice amounts for cash and guarantee-based duty drawback to calculate Saha Thai's duty drawback. The methodology applied in the Final Results increased the total amount of duty drawback claimed by respondent.

Following publication of the Final Results, Allied Tube and Conduit Corp., petitioner in this case, filed a lawsuit with the CIT challenging the Department's date of sale and duty drawback determinations in the Final Results.

On January 18, 2001, the CIT remanded the above-referenced proceeding to the Department for reconsideration of the following issue: (1) to explain why the Department's duty drawback methodology, which employed facts available, is consistent with the objectives of the facts available provision, 19 U.S.C. 1677e(a) (Section 776(a) of the Act), and accounts for gaps in respondent's information; or alternatively, to calculate a new duty drawback adjustment which is consistent with this objective. In its opinion, the CIT affirmed the Department's determination that respondent was entitled to a duty drawback adjustment to its export price, and also supported the Department's use of facts otherwise available in determining the appropriate adjustment. However, the CIT stated that the Department did not explain how its use of facts available corrects the problem of reliance on Saha Thai's claimed adjustment, i.e., excessive drawback adjustment from inclusion of bank guarantee fees, and drawback adjustment exceeding the actual amounts rebated. See Allied Tube and Conduit Corp. v. United States, 132 F. Supp. 2d 1087 (CIT 2001).

As noted above, in the Final Results, the Department's use of a simple average in calculating a facts available duty drawback amount resulted in an increase in the total amount of duty drawback claimed by the respondent. The Department had intended through the use of this approach, to apply neutral facts available by decreasing those duty drawback amounts that were above the calculated average. However, because the invoice tonnage amounts were not taken into account in the calculation of the average, the Department's methodology resulted in an overall increase in the total duty drawback amount claimed by the respondent.

Therefore, for the Draft Results of Redetermination, we reconsidered our methodology in accordance with the CIT's order and determined that the simple average methodology applied did not adequately function as a modified duty drawback adjustment for respondent. Thus, the Department recalculated the duty drawback amount to be applied to the relevant invoices by weight-averaging the reported cash and guarantee-based duty drawback amounts by invoice quantity in order to more appropriately apply facts available to this duty drawback calculation. This results in a weighted-average figure for duty drawback which is less than the previously-calculated figure. This methodology properly accounts for the tonnages in each invoice and results in a more appropriate application of facts available because the total duty drawback amount is not increased above that which the respondent reported. The methodology is consistent with the facts available provision because, although it need not be the “best available information,” Statement of Administrative Action at 869, reprinted in 1994 U.S.C.C.A.N. at 4198, based on evidence on the record the use of a weighted average, as opposed to a simple average, more appropriately accounts for the gap in respondent's information, thus promoting greater accuracy in the margin calculation.

On February 14, 2001, the Department issued its Draft Results of Redetermination to the plaintiff and defendant-intervenor for comment. Neither party submitted comments to the Department. Therefore, the Final Results of Redetermination were identical to the Draft Results of Redetermination.

On March 22, 2001, the CIT affirmed the Department's remand results, upholding the use of a weighted-average of the claimed duty drawback as facts available. See Allied Tube and Conduit Corp. v. United States, No. 99-11-00715, 2001 Ct. Intl. Trade LEXIS 40; Slip. Op. 01-03 (March 22, 2001).

We have recalculated the dumping margin for respondent based upon the changes set forth above.

Amendment to Final Results of Review

Because no further appeals have been filed and there is now a final and conclusive decision in the court proceeding, effective as of the publication date of this notice, we are amending the Final Results and establishing the following revised weight-averaged dumping margin:

Company | Amended Final Results 3/1/97-2/28/98
Saha Thai Steel Pipe Company, Ltd | 9.84%

The “All Others Rate” was not affected by the Final Results of Redetermination and remains at 15.67 percent as determined in the LTFV investigation.

The Department has also revised the importer specific duty assessment rates (see Final Results) and will instruct the U.S. Customs Service (Customs) to assess these revised antidumping duties on all appropriate entries. The Department will issue appraisement instructions directly to Customs.

This notice is issued and published in accordance with section 751(a)(1) of the Act.

Dated: August 21, 2001.
Joseph A. Spetrini,
Acting Assistant Secretary for Import Administration.

[FR Doc. 01-21835 Filed 8-28-01; 8:45 am]

BILLING CODE 3510-DS-P